NATIONAL SCIENCE FOUNDATION

National Science Board; Sunshine Act Meetings; Notice

The National Science Board (NSB) Committee on Audit and Oversight and the NSB Committee on Strategy and Budget, pursuant to NSF regulations (45 CFR part 614), the National Science Foundation Act, as amended (42 U.S.C. 1862n-5), and the Government in the Sunshine Act (5 U.S.C. 552b), hereby gives notice in regard to the scheduling of meetings for the transaction of NSB business and other matters specified, as follows:

DATE AND TIME: Monday, August 29, 2011 at 4 p.m.-5 p.m., E.D.T.

SUBJECT MATTER: Review, discussion and recommendation of the NSF FY 2013 budget.

STATUS: Closed.

This meeting will be held by teleconference originating at the National Science Board Office, National Science Foundation, 4201 Wilson Blvd., Arlington, VA 22230.

Please refer to the National Science Board Web site (http://www.nsf.gov/nsb/notices/) for information or schedule updates, or contact: Kim Silverman or Blane Dahl, National Science Foundation, 4201 Wilson Blvd., Arlington, VA 22230. Telephone: (703) 292-7000.

Ann Ferrante,
Writer-Editor.

[FR Doc. 2011-21132 Filed 8-15-11; 4:15 pm]

BILLING CODE 7555-01-P